DEPARTMENT OF COMMERCE

National Oceanic and Atmospheric Administration

[XRIN: 0648-XA66]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 138th meeting to consider and take actions on fishery management issues in the Western Pacific Region.

DATES: The 138th Council meeting and public hearings will be held on June 19 - 22, 2007. For specific times and the agenda, see SUPPLEMENTARY INFORMATION.

ADDRESSES: The 138th Council meeting and public hearings will be held at the Ala Moana Hotel, 410 Atkinson Drive, Honolulu, HI 96814-4722; telephone: (808) 955-4811.

FOR FURTHER INFORMATION CONTACT: Kitty M. Simonds, Executive Director; telephone: (808) 522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Tuesday, June 19, 2007

Standing Committee

1. 9 a.m. - 11 a.m. - Marianas Archipelago Ecosystem Standing Committee

2. 9 a.m. - 11 a.m. - Hawaii Archipelago Ecosystem Standing Committee

3. 11 a.m. - 12:30 p.m. - American Samoa Archipelago Ecosystem Standing Committee

4. 1:30 p.m. - 3:30 p.m. - Pelagics and International Ecosystem Standing Committee

5. 3:30 p.m. - 5 p.m. - Program Planning/Research Standing Committee

6. 3:30 p.m. - 5 p.m. - Executive/Budget Standing Committee

The agenda during the full Council meeting will include the items listed here.

Schedule and Agenda for Council Meeting

Wednesday, June 20, 2007, 9 a.m. - 9 p.m.

1. Introductions

2. Approval of Agenda

3. Approval of 137th Meeting Minutes

4. Agency Reports

A. NMFS

1. Pacific Islands Regional Office (PIRO)

2. Pacific Islands Fisheries Science Center (PIFSC)

B. NOAA General Counsel

C. United States Fish and Wildlife Service (USFWS)

5. Mariana Archipelago

A. Island Area Reports

1. Commonwealth of the Northern Mariana Islands (CNMI)

2. Guam

B. Enforcement Reports

1. CNMI Enforcement Agency Report

2. Guam Enforcement Agency Report

3. United States Coast Guard (USCG) Enforcement Report

4. NMFS Office for Law Enforcement (OLE) Report

5. Status of Violations

C. CNMI Marine Conservation Plan (MCP)

D. Mariana Community Initiatives and New Issues

E. Education and Outreach Initiatives

F. Scientific and Statistical Committee (SSC) Recommendations

G. Standing Committee Recommendations

H. Public Comment

I. Council Discussion and Action

6. American Samoa Archipelago

A. Island Area Reports

B. Enforcement Reports

1. Agency Enforcement Report

2. U.S.C.G. Enforcement Report

3. NMFS OLE Report

4. Status of Violations

C. Report on American Samoa Longline Workshop

D. Education and Outreach Initiatives

E. Advisory Panel (AP) Recommendations

F. Regional Ecosystem Advisory Committee (REAC) Report

G. SSC Recommendations

H. Standing Committee Recommendations

I. Public Comment

J. Council Discussion and Action

7. Hawaii Archipelago and Pacific Remote Island Areas (PRIA)

A. Main Hawaiian Islands (MHI) Bottomfish (ACTION ITEM)

1. Report on MHI Bottomfish Working Groups and Meetings

a. Public Meetings

b. Agency Workshop, Working Groups and Outreach

c. Enforcement Training and Compliance Workshop

2. Seasonal Closure, Total Allowable Catch (TAC), Permits and Reporting

3. Permits and Reporting Details

4. Federal Recreational Bag Limits

5. Inclusion of State of Hawaii Bottomfish Restricted Fishing Areas (BRFA) in Federal Waters

B. Risk Analysis of Potential TAC

C. Updated Analysis of State of Hawaii Division of Aquatic Resources (HDAR) Survey of Bottomfish Registered Vessel Owners

D. AP Recommendations

E. SSC Recommendations

F. Standing Committee Recommendations

G. Public Hearing

H. Council Discussion

Thursday, June 21, 2007, 9 a.m. - 5 p.m.

7. Hawaii Archipelago and PRIA (Continued)

I. Island Area Reports

J. Enforcement Reports1. Agency Enforcement Report

2. U.S.C.G. Enforcement Report

3. NMFS OLE Report

4. Status of Violations

K. Precious Corals

1. Potential for Auau Limited Entry (ACTION ITEM)

2. Precious Corals Plan Team Report

L. Hawaii Community Initiatives

1. Hoohanohano I Na Kupuna Puwalu IV Report

2. Report on Development of Hawaii Community Development Program

3. Legislative Actions

M. Education and Outreach Initiatives

N. AP Recommendations

O. REAC Report

P. SSC Recommendations

Q. Standing Committee Recommendations

R. Public Hearing

S. Council Discussion and Action

8. Pelagic and International Fisheries

A. Longline Management

1. Longline Tuna TAC Framework (ACTION ITEM)

2. Guam Longline Area Closure (ACTION ITEM)

3. Status of Hawaii Longline Association Swordfish Proposal

B. Non-longline fisheries

1. Recreational Fisheries

a. Recreational fishery registration

b. Ad-hoc Recreational Fisheries Data Task Force Meeting

2. Hawaii-based Pelagic Vessels Non-Longline, Non-Purse-Seine Limited Entry (ACTION ITEM)

C. Status of Amendment 14 to the Pelagics Fishery Management Plan

D. American Samoa and Hawaii Longline Quarterly Reports

E. International Fisheries

1. ISC Bycatch Working Group

2. Inter-American Tropical Tuna Commission (IATTC) Stock Assessment Working Group

3. Western and Central Pacific Fisheries Commission (WCPFC), Third Science Committee Meeting Agenda and Risk Assessment Workshop Report

4. WCPFC Implementing Actions

5. Secretariat for the Pacific Community (SPC)/Papua New Guinea Tuna Tagging

F. Pelagic Plan Team Recommendations

G. AP Recommendations

H. SSC Recommendations

I. Standing Committee Recommendations

J. Public Hearing

K. Council Discussion and Action

Friday, June 22, 2007, 9 a.m. - 5 p.m.

9. Program Planning

A. Update on Use of State of Hawaii Disaster Relief Funds

B. Fishery and Seafood Marketing Development

C. Using Local Names for non-Local Fish

D. Status of Fishery Management Actions

E. Social Science Research Committee Report

F. Report on Magnuson-Stevens Reauthorization Act (MSRA)

1. Annual Catch Limit Guidance

2. Marine Training and Education Program

G. Report on Regulatory Streamlining Workshop

H. New Program Initiatives from AP and REAC

I. SSC Recommendations

J. Standing Committee Recommendations

K. Public Comment

L. Council Discussion and Action

10. Administrative Matters & Budget

A. Financial Reports

B. Administrative Reports

C. Meetings and Workshops

D. Council Family Changes

1. Advisory Group Changes

2. REAC Membership

E. Council Committee Assignments

F. Standing Committee Recommendations

G. Public Comment

H. Council Discussion and Action

11. Other Business

A. Next Meeting

BACKGROUND INFORMATION

1. MHI bottomfish (ACTION ITEM)

NMFS determined that overfishing of the bottomfish species complex was occurring within the Hawaiian Archipelago with the primary problem being excess fishing mortality in the main Hawaiian Islands. The NMFS Regional Administrator for the Pacific Islands Regional Office notified the Western Pacific Regional Fishery Management Council of this overfishing determination on May 27, 2005.

In response, the Council prepared and transmitted to NMFS in May 2006, an amendment to the Bottomfish Fishery Management Plan (FMP), which recommended closure of federal waters around Penguin and Middle Banks to bottomfish fishing to end the overfishing Before that recommendation was processed by NMFS, however, an updated stock assessment was completed by NMFS' Pacific Islands Fisheries Science Center in 2006 which concluded the required reduction in fishing mortality based on 2004 data would be 24 percent. This new information indicated a need for the Council to re-examine this action which was done.

Therefore, to end bottomfish overfishing based on the most recent data, the Council is recommending amending the Bottomfish FMP using a phased approach. The 24 percent reduction would be achieved in 2007 and 2008 through the use of seasonal closures in conjunction with limits on total allowable catches (TACs). As fishery monitoring improves, overfishing would be prevented in 2009 and beyond through implementation of TACs based on, and applied to, the commercial and the recreational sectors.

Tracking of commercial landings towards the TAC would begin when the fishery reopens on October 1, 2007. During the open period, recreational catches would continue to be managed by bag limits, however they would be changed from the current five onaga and/or ehu combined per person per trip, to five of any Deep 7 species combined per person per trip and they would be extended into Federal waters to ease enforcement. Once commercial Deep 7 landings reached the TAC, both the commercial and recreational sectors would be closed. Phase 2 includes a Federal permit requirement for recreational fishermen who catch Deep 7 in the MHI.

The Council will also consider implementing Federal reporting requirements for recreational fishermen who target or catch bottomfish management unit species (BMUS) in the MHI. This would provide fishery scientists with the data needed to calculate and track a recreational portion of the overall TAC.

In 2008, the second seasonal closure to MHI Deep 7 fishing will be from May August 2008, followed by implementation of a combined commercial and recreational Deep 7 TAC beginning September 1, 2008. The recreational bag limits would be eliminated.

In subsequent years, 2009 and beyond, the MHI Deep 7 fishery would be managed via a commercial and recreational TAC calculated by PIFSC to prevent overfishing of these species.

At its 138th meeting, the Council will take final action on these recommendations, as well as on a series of related implementation details.

The Council will also consider whether inclusion of State of Hawaii's Bottomfish Restricted Fishing Areas in Federal waters is consistent with the Bottomfish FMP.

2. Potential for Auau Channel limited entry (ACTION ITEM)

Research has revealed that the biomass of the black coral populations has decreased by at least 25% in the last 30 years. Stringent measures were recommended by scientists and the Council's Precious Corals Plan Team to conserve the black coral resource in the Auau Channel. In response the Council has recommended removing an exemption that allowed certain fishermen to harvest black coral at a slightly smaller minimum size than non-exempted fishermen. This is expected to provide a longer period of recruitment. The Council has also recommended the designation of the Auau Channel as an established bed with an associated harvest quota that would be applicable to both State and Federal waters. This is intended to ensure that harvests are limited and that the fishery is sustainably managed. Although the Council has recommended several regulatory changes to address this problem, a limited access program may provide an additional safeguard to ensure that harvests are limited and that the fishery is sustainably managed.

Based on a recommendation from the Precious Corals Plan Team, the Council is now considering creating a limited entry system for the black coral fishery in Federal waters of the Auau Channel. Limiting participation in the fishery would allow fishery managers and enforcement officers to more tightly monitor harvests to ensure that the quota is not exceeded. There are currently less than three commercial black coral fishing operations active within the State and Federal waters that encompass the Auau Channel black coral bed. There are no known non-commercial operations.

The following alternatives are being proposed:

Alternative 1: No Action.

Under this alternative participation in the black coral fishery would continue to be open to all applicants.

Alternative 2: Limit access to current black coral fishery participants via transferable limited access permits.

Under this alternative participation in the portion of the Auau Channel black coral fishery located in Federal waters would initially be limited to those participants who are currently active in this fishery. When these participants were ready to leave the fishery, they could transfer their permits by sale, trade or gift to new participants. However the total number of participants would be capped at current levels.

Alternative 3: Limit participation to a target number of participants via transferable limited access permits.

Under this alternative participation in the portion of the Auau Channel black coral fishery located in Federal waters would be limited to a target number of participants. The appropriate target has not been determined but would be calculated based on the area's productivity, typical fishing operating patterns, and social and economic considerations. The target number of participants could be less than, equal to, or greater than the number of currently active participants. When these participants were ready to leave the fishery, they could transfer their permits by sale, trade or gift to new participants.

Alternative 4: Limit participation to currently active participants via non-transferable limited access permits and close the Federal portion of the fishery when these participants retire.

Under this alternative participation in the portion of the Auau Channel black coral fishery located in Federal waters would be limited to those currently active participants. When these participants leave the fishery, their permits would be retired and no new entrants would be permitted to enter this portion of the fishery.

At its 138th meeting in Honolulu, HI, the Council may take action on this issue in regards to the fisheries of the Hawaiian archipelago and may make a recommendation for management of the black coral fishery of the Auau Channel, Hawaii.

3. Longline tuna TAC framework (ACTION ITEM)

At its 138th meeting, the Council may take final action to adjust the framework process within the Pelagics Fishery Management Plan (PFMP) to allow for the implementation of longline catch limits stemming from the decisions of the two Pacific tuna Regional Fishery Management Organizations (RFMOs).

International management and conservation of bigeye tuna in the Pacific is the responsibility of the Western and Central Pacific Fishery Commission (WCPFC) and the Inter-American Tropical Tuna Commission (IATTC). The two Pacific tuna RFMOs have already implemented limits on fleet-wide catches of bigeye tuna by longline vessels, and it is likely that further measures may also be applied to other tunas caught by longliners. Currently, there is no mechanism by U.S. catch limits established by an RFMO can be efficiently implemented through the Magnuson-Stevens Act (MSA) process by the Western Pacific Council.

An amendment to the PFMP typically requires approximately one year for the completion of necessary documentation, analysis Secretarial review and approval, and implementation. Pacific RFMO tuna harvest limits are likely to change annually, based on the results of stock assessments and other changes in the fishery. Timely domestic implementation of catch limits stemming from the tuna RFMOs will require that abbreviated background work and documentation be prepared in advance of RFMO decisions. The framework process is designed for this situation. Under this process the Council will prepare and review analyses of anticipated impacts of a likely range of catch limits. This analysis will then be used by the Council to accept or modify the RFMO decisions under the MSA. All analyses will be subject to public review and comment, as will any proposed rule resulting from this process.

At its 137th meeting, the Council endorsed an alternative to modify the framework process in the PFMP to give the Council the ability to implement catch limits for the harvesting of pelagic fish by longline vessels. Implicit in this recommendation was that additional analysis of impacts would heed advice from the Council's SSC that observer data between Eastern Pacific Ocean (EPO) and Western and Central Pacific Ocean (WCPO) be disaggregated for the Hawaii longline fishery, and that swordfish and tuna longline fisheries catch rates between the EPO and WCPO be similarly disaggregated. This was suggested in order to more precisely estimate the expected range of tuna catches and their impacts on the environment.

4. Guam longline area closure (ACTION ITEM)

Until recently, longlining has not been conducted by U.S. vessels based out of ports in the Mariana Islands (Guam and the Commonwealth of the Northern Mariana Islands). In 2006, however, the Guam Fishermen's Cooperative (GFC) began operating a longline vessel, fishing primarily within the U.S. EEZ around Guam using a 50ft fishing vessel converted to longlining through assistance from the Council's Community Demonstration Project Program (CDPP). The primary function of the vessel is to operate in a training capacity to train Guam fishermen to longline fish. Most fishermen have no experience in offshore, multi-day fishing trips or with using longline gear.

However, the operations of the GFC vessel are constrained within the U.S. EEZ around Guam due to a 50 nautical mile exclusion zone for longline and purse seine vessels around the island of Guam and its offshore banks, implemented in 1992 through Amendment 5 to the Pelagics Fishery Management Plan (PFMP). In 1992, there was no domestic Guam longline fishery but troll fishermen in Guam were concerned about unrestricted growth of longlining by U.S. vessels from outside the territory following the expansion of the Hawaii longline fishery after 1987. In response to these concerns, the Council recommended in1990 the implementation of the 50 nm closures around Guam and its offshore banks in September. The Council also established a control date of December 6, 1990 control date for entry into longline fishery, although this date is now redundant.

The original concerns about expansion of U.S. longline fishing home-ported out of Guam through vessels migrating from other parts of the U.S. now appear to be unfounded. As such, the area closures developed in the early 1990s may now be an unnecessary impediment to the continued growth of 'domestic' longlining on Guam. However, troll fishermen on Guam still wish to see some form of protection from gear conflict with longline fishing, especially some form of area closure around the offshore banks, from where about one third of fishing trips are conducted.

At its 137th meeting, the Council supported continued development of longline closed area in Guam which would encompass the locally designated White Tuna Banks, an area of importance to Guam's troll fishermen. Subsequently, a total of seven alternatives have been analyzed by the Council:

1. No action

2. Community Development Progam

3. Exploratory Fishing Permit

4. Reduce the longline exclusion zone to a uniform 25 nm around Guam

5. Modify the existing longline area closure to exclude only vessels over a certain size class

6. Seasonal reduction in the longline exclusion zone around Guam

The analysis of the seven alternatives in the draft amendment document looks at the impacts of longline fishing, primarily on the existing troll fishery on Guam, on protected and sensitive species and fishery participants and the fishing community on Guam. In the absence of longline fishery data from the GFC vessel, a proxy model was developed based on deep set tuna longline fishing by domestic longliners in the Federated States of Micronesia, coupled with observer data from the SPC for this type of fishery. This proxy was then used to look at longline catches at low and moderate levels of fishing effort associated with training fishermen and a high level of effort consistent with a commercial operation. The Council may take final action at the 138th meeting and select a preferred alternative for modifying the current longline closed area in the U.S. EEZ around Guam.

5. Hawaii-based Pelagic Vessels Non-longline, Non-purse seine limited entry (ACTION ITEM)

At its 137th meeting, the Council recommended that the potential for a limited entry program be investigated for the Hawaii charter vessel fishery. This recommendation stemmed from the ongoing and planned expansion of small boat harbors in Hawaii which may afford greater number of charter vessels to operate from Hawaii and Oahu. Catch and effort data from both locations shows that over a 20 year time span catch rates for blue marlin have declined by about 50-60%, while effort has increased, particularly in recent years. As a consequence of this recommendation, a control rule was published for the fishery dated May 11, 2007, after which new entrants are not guaranteed future participation.

The Council may also wish to consider whether it wished to limit entry for other non-longline coastal pelagic fisheries (NLCPs). Among the reasons for considering such action are new language in the Magnuson-Stevens Reauthorization Act (MSRA) requiring Councils to set Annual Catch Limits (ACLs) for federally managed fisheries. ACLs were designated in the MSRA as another measure to ensure that stocks are not overfished. Moreover, conservation measures for bigeye and yellowfin tuna stemming from the Western and Central Pacific Fishery Commission (WCPFC) are increasingly focusing on fisheries other than purse seining and longline fishing, and may in the future require data on these fisheries and possible limits on catches. Consequently at the 138th meeting, the Council may consider limiting entry for NLCPs beyond charter vessels.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S. C. 1801 et seq.

Dated: June 1, 2007.
Tracey L. Thompson,
Acting Director, Office of Sustainable Fisheries, National Marine Fisheries Service.

[FR Doc. E7-10830 Filed 6-5-07; 8:45 am]

BILLING CODE 3510-22-S